DEPARTMENT OF AGRICULTURE

Commodity Credit Corporation

Notice of Request for Extension of a Currently Approved Information Collection

AGENCY: Commodity Credit Corporation, USDA.

ACTION: Notice and request for comments.

SUMMARY: In accordance with the Paperwork Reduction Act of 1995, this notice announces the Commodity Credit Corporation's (CCC) intention to request an extension to a currently approved information collection in support of the regulations governing the foreign donation of agricultural commodities under both the section 416(b) and the Food for Progress programs based on re-estimates.

DATES: Comments on this notice must be received by August 11, 2000 to be assured of consideration.

ADDITIONAL INFORMATION OR COMMENTS: Contact Merle Brown, Director, Program Administration Division, Foreign Agricultural Service, U.S. Department of Agriculture, Stop 1031, Washington, DC 20250-1031, telephone (202) 720-3573. Persons with disabilities who require an alternative means for communication of information (Braille, large print, audiotape, etc.) should contact USDA's Target Center at (202) 720-2600 (voice and TDD).

SUPPLEMENTARY INFORMATION: Title: Foreign Donation of Agricultural Commodities.

OMB Number: 0551-0035.

Expiration Date of Approval: October 31, 2000.

Type of Request: Extension of currently approved information collection.

Abstract: Cooperating sponsors must provide proposal documents and compliance and related reports until commodities or local currencies generated from the sale thereof are utilized. Shipping agents must submit information and certifications regarding their activities and affiliations. Documents are used to develop effective agreements and assure statutory requirements and objectives are met.

Estimate of Burden: The public reporting burden for these collections vary in direct relation to the number and type of agreements.

Respondents: U.S. private voluntary organizations, U.S. cooperatives, foreign governments, shipping agents, ship owners and brokers, and survey companies.

Estimated Number of Respondents: 180 per annum.

Estimated Number of Responses per Respondent: 21 per annum.

Estimated Total Annual Burden of Respondents: 38,827 hours.

Copies of this information collection can be obtained from Kimberly Chisley, the Agency Information Collection Coordinator, at (202) 720-2568.

Requests for comments: Send comments regarding (a) whether the proposed collection of information is necessary for the proper performance of the functions of the agency, including whether the information will have practical utility; (b) the accuracy of the agency's estimate of the burden of the proposed collection of information; (c) ways to enhance the quality, utility and clarity of the information to be collected; and (d) ways to minimize the burden of the collection of information on those who are to respond, including through the use of automated, electronic, mechanical, or other technological collection techniques or other forms of information technology.

Comments may be sent to Merle Brown, Director, Program Administration Division, FAS, USDA, Stop 1031, Washington, DC 20250, or the Desk Officer for Agriculture, Office of Information and Regulatory Affairs, Office of Management and Budget, Washington, DC 20503.

All responses to this notice will be summarized and included in the request for OMB approval. All comments will also become a matter of public record.

Signed at Washington, D.C. on June 2, 2000.
Timothy J. Galvin,
Administrator, Foreign Agricultural Service, and Vice President, Commodity Credit Corporation.

[FR Doc. 00-14663 Filed 6-9-00; 8:45 am]

BILLING CODE 3410-10-P